DEPARTMENT OF THE INTERIOR

Bureau of Ocean Energy Management

Notice on Outer Continental Shelf Oil and Gas Lease Sales

AGENCY: Bureau of Ocean Energy Management, Interior.

ACTION: List of Restricted Joint Bidders.

SUMMARY: Pursuant to the Bureau of Ocean Energy Management (BOEM) regulatory restrictions on joint bidding, the Director of BOEM is publishing a List of Restricted Joint Bidders. Each entity within one of the following groups is restricted from bidding with any entity in any of the other following groups at Outer Continental Shelf oil and gas lease sales held during the bidding period of May 1, 2021, through October 31, 2021.

DATES: This List of Restricted Joint Bidders covers the bidding period of May 1, 2021, through October 31, 2021, and succeeds the prior list published on September 24, 2020 (85 FR 60266), which covered the period of November 1, 2020, through April 30, 2021.

SUPPLEMENTARY INFORMATION:

List of Restricted Joint Bidders

Group I

BP America Production Company

BP Exploration & Production Inc.

BP Exploration (Alaska) Inc.

Group II

Chevron Corporation

Chevron U.S.A. Inc.

Chevron Midcontinent, L.P.

Unocal Corporation

Union Oil Company of California

Pure Partners, L.P.

Group III

Eni Petroleum Co. Inc.

Eni Petroleum US LLC

Eni Oil US LLC

Eni Marketing Inc.

Eni BB Petroleum Inc.

Eni US Operating Co. Inc.

Eni BB Pipeline LLC

Group IV

Equinor ASA

Equinor Gulf of Mexico LLC

Equinor USA E&P Inc.

Group V Exxon Mobil Corporation

ExxonMobil Exploration Company

Group VI

Shell Oil Company

Shell Offshore Inc.

SWEPI LP

Shell Frontier Oil & Gas Inc.

SOI Finance Inc.

Shell Gulf of Mexico Inc.

Group VII

Total E&P USA, Inc.

Even if an entity does not appear on the above list, certain joint or single bids submitted by such entity may be disqualified, and rejected, by BOEM if that entity is chargeable for the prior production period with an average daily production in excess of 1.6 million barrels of crude oil, natural gas, and natural gas liquids. See 30 CFR 556.512.

Authority: 42 U.S.C. 6213; and 30 CFR 556.511-556.515.

Amanda Lefton,
Director, Bureau of Ocean Energy Management.

[FR Doc. 2021-08626 Filed 4-23-21; 8:45 am]

BILLING CODE 4310-MR-P